SOCIAL SECURITY ADMINISTRATION

Agency Information Collection Activities: Proposed Request

In compliance with Public Law 104-13, the Paperwork Reduction Act of 1995, the Social Security Administration (SSA) is providing notice of its information collections that require submission to the Office of Management and Budget (OMB). SSA is soliciting comments on the accuracy of the agency's burden estimate; the need for the information; its practical utility; ways to enhance its quality, utility and clarity; and on ways to minimize burden on respondents, including the use of automated collection techniques or other forms of information technology.

Written comments and recommendations regarding the information collections should be submitted to the SSA Reports Clearance Officer at the following address: Social Security Administration, DCFAM, Attn: Frederick W. Brickenkamp 6401 Security Blvd., 1-A-21 Operations Bldg., Baltimore, MD 21235.

The information collections listed below will be submitted to OMB within 60 days from the date of this notice. Therefore, comments and recommendations regarding the information collections would be most useful if received by the Agency within 60 days from the date of this publication. You can obtain a copy of the collection instruments by calling the SSA Reports Clearance Officer at (410) 965-4145, or by writing to him at the address listed above.

1. Internet Direct Deposit Application—0960—NEW. SSA uses Direct Deposit/Electronic Funds Transfer (DD/EFT) enrollment information received from beneficiaries to facilitate DD/EFT of their social security benefits with a financial institution. The respondents are Social Security beneficiaries who use the Internet to enroll in DD/EFT.

Number of Respondents: 3,485.

Frequency of Response: 1.

Average Burden Per Response: 10 minutes.

Estimated Average Burden: 581 hours.

2. Request to Have Supplemental Security Income Overpayment Withheld from My Social Security Benefits-0960—0549. Form SSA-730-U2 is used by SSA to confirm that a request has been made by a Social Security beneficiary for SSA to recover his/her SSI overpayment from title II benefits and that the request was made voluntarily by the beneficiary. The respondents are Social Security beneficiaries who received SSI overpayments.

Number of Respondents: 10,000.

Frequency of Response: 1.

Average Burden Per Response: 5 minutes.

Estimated Average Burden: 833 hours.

3. Farm Self-Employment Questionnaire—0960-0061. Section 211(a) of the Social Security Act requires the existence of a trade or business as a prerequisite for determining whether an individual or partnership may have “net earnings from self-employment.” Form SSA-7156 elicits the information necessary to determine the existence of an agricultural trade or business and subsequent covered earnings for Social Security entitlement purposes. The respondents are applicants for Social Security benefits, whose entitlement depends on whether the worker has covered earnings from self-employment as a farmer.

Number of Respondents: 47,500.

Frequency of Response: 1.

Average Burden Per Response: 10 minutes.

Estimated Average Burden: 7,917 hours.

Dated: March 6, 2001.
Frederick W. Brickenkamp,
Reports Clearance Officer, Social Security Administration.

[FR Doc. 01-6057 Filed 3-9-01; 8:45 am]

BILLING CODE 4191-02-P